DEPARTMENT OF JUSTICE

Notice of Lodging of Consent Decree Pursuant to the Comprehensive Environmental Response, Compensation, and Liability Act

Pursuant to Section 122(d)(2) of the Comprehensive Environmental Response, Compensation, and Liability Act (“CERCLA”), 42 U.S.C. 9622(d)(2), and 28 CFR 50.7, notice is hereby given that a proposed Consent Decree embodying a settlement in United States v. Del Monte Fresh Produce (Hawaii), Inc., Civil Action No. 05-0049 5, was lodged on August 4, 2005, with the United States District Court for the District of Hawaii.

In a Complaint filed concurrently with the lodging of the Consent Decree, the United States seeks reimbursement of costs incurred by the United States and injunctive relief relating to the Del Monte Fresh Produce (Hawaii), Inc., site located in Oahu, Hawaii (“Site”). The United States alleges in the Complaint that the defendant, Del Monte Fresh Produce (Hawaii), Inc. (“DMFP”), operated the Site and disposed or arranged to dispose of hazardous substances at the Site within the meaning of Sections 107(a)(1), (2), and (3) of CERCLA, 42 U.S.C. 9607(a)(1), (2), and (3).

Under the proposed Consent Decree, DMFP has agreed to fund and perform response actions at the Site. The Consent Decree requires DMFP to, among other things, install monitoring wells to characterize the extent of contaminated groundwater; pump and treat contaminated groundwater; implement phytoremediation; place a vegetated soil covering or cap over the contaminated soil area; install a soil vapor extraction system; and restrict land use. The Consent Decree also requires DMFP to reimburse the Untied States for its costs.

The United States Department of Justice will receive, for a period of 30 days from the date of this publication, comments relating to the proposed Consent Decree. Comments should be addressed to the U.S. Department of Justice, Assistant Attorney General, Environment and Natural Resources Division, P.O. Box 7611, Ben Franklin Station, Washington, DC 20044-7611, and should refer to United States v. Del Monte Fresh Produce (Hawaii), Inc., DOJ Ref. 90-11-3-08277.

The proposed Consent Decree may be examined during the public comment period on the following United States Department of Justice Web site: http://www.usdoj.gov/enrd/open.html. A copy of the Consent Decree may also be obtained by mail from the Consent Decree Library, U.S. Department of Justice, P.O. Box 7611, Ben Franklin Station, Washington, DC 20044-7611, or by faxing or E-mailing a request to Tonia Fleetwood (tonia.fleetwood@usdoj.gov), fax number (202) 514-0097, phone confirmation number (202) 514-1547. When requesting a copy from the Consent Decree Library, please enclose a check, payable to the U.S. Treasury, in the amount of $24.25 ($.25 per page reproduction cost).

Ellen Mahan,
Assistant Section Chief, Environmental Enforcement Section, Environment and Natural Resources Division.

[FR Doc. 05-16345 Filed 8-17-05; 8:45 am]

BILLING CODE 4410-15-M